DEPARTMENT OF TRANSPORTATION

Federal Aviation Administration

14 CFR Part 39

[Docket No. 2003-NM-211-AD; Amendment 39-14484; AD 2006-04-03]

RIN 2120-AA64

Airworthiness Directives; Airbus Model A330-200 and -300 Series Airplanes, Model A340-200 and -300 Series Airplanes, and Model 340-541 and -642 Airplanes

AGENCY: Federal Aviation Administration, DOT.

ACTION: Final rule.

SUMMARY: This amendment adopts a new airworthiness directive (AD), applicable to all Airbus Model A330-200 and -300 series airplanes, Model A340-200 and -300 series airplanes, and Model 340-541 and -642 airplanes. This AD requires identifying the part number of the emergency evacuation slides or slide rafts installed on Type “A” exit doors, and modifying the regulator valves of the slide and slide raft assemblies if necessary. The actions specified by this AD are intended to prevent failure of an emergency evacuation slide raft to deploy and inflate during an emergency situation, which could impede an evacuation and result in injury to passengers or crewmembers. This action is intended to address the identified unsafe condition.

DATES: Effective March 24, 2006.

The incorporation by reference of certain publications listed in the regulations is approved by the Director of the Federal Register as of March 24, 2006.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Tim Backman, Aerospace Engineer, ANM-116, International Branch, Transport Airplane Directorate, FAA, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to all Airbus Model A330 and A340-200, -300, -500, and -600 series airplanes was published as a supplemental notice of proposed rulemaking (NPRM) in the Federal Register on June 22, 2005 (70 FR 36078). The supplemental NPRM proposed to require identifying the part number of the emergency evacuation slides or slide rafts installed on Type “A” exit doors, and modifying the regulator valves of the slide and slide raft assemblies if necessary.

Comments

Interested persons have been afforded an opportunity to participate in the making of this amendment. Due consideration has been given to the comments received from one commenter.

Request To Change Applicability

The commenter, on behalf of the manufacturer, asks that we change the applicability of the supplemental NPRM, which excludes the following airplanes if no slide has been removed since delivery from the manufacturer:

Model— | Modified by—
A330-200 and -300 and A340-200 and -300 series airplanes | Both Airbus Modifications 52708 and 52811.
A340-500 and -600 series airplanes | Airbus Modification 52708.

He explains that airplanes modified by both Modifications 52708 and 52811 include only Model A330-200 and -300 and A340-200 and -300 series airplanes that have the optional doors (type A door 3) installed per Modification 40161. Airplanes modified by only Modification 52708 include some Model A330 and A340-200 and -300 series airplanes, as well as all of the Model A340-500 and -600 series airplanes; these airplanes have the basic doors (type 1 door 3). He requests that the applicability for Model A330 and A340-200 and -300 series airplanes account for both configurations: (1) those with both Modification 52708 and 52811, and (2) those with Modification 52708 only. He therefore recommends that we revise the applicability to exclude the following airplanes if no slide has been removed since delivery from the manufacturer:

Model— | Modified by—
A330-200 and A340-200 and -300 series airplanes | Both Airbus Modifications 52708 and 52811, or Only Airbus Modification 52708.
A340-500 and -600 series airplanes | Airbus Modification 52708.

We agree to change the applicability section in this final rule. In the “Actions Since Issuance of Original NPRM” section of the supplemental NPRM, we specify, in part, that French airworthiness directive F-2004-094 R1, dated February 16, 2005, limits the applicability specified in French airworthiness directive 2003-213(B) R1, dated August 20, 2003. The new applicability is consistent with the commenter's request; therefore we have changed the applicability in this final rule accordingly.

Request To Remove/Change Certain Part Numbers

The commenter states that there is a discrepancy between the supplemental NPRM and the referenced French airworthiness directive for certain P/Ns specified in the table in paragraph (b) of the supplemental NPRM. The commenter asks that we remove P/Ns 007/013/015/017 for Door 3, LH and RH, and we add P/N 111 in place of P/N 113. We agree with the commenter. We inadvertently included incorrect P/Ns in the subject table, and we have verified that the P/Ns do not exist for the doors identified. We have changed the final rule to match the French airworthiness directive.

Explanation of Change to Final Rule

We have removed the reference to French airworthiness directive 2003-213(B) R2, dated July 3, 2004, from Note 1 of the supplemental NPRM. That airworthiness directive is merely a cancellation notice and is replaced by French airworthiness directive F-2004-094 R1, which is also referenced in Note 1.

Explanation of Change to Applicability

We have revised the applicability of this AD to identify model designations as published in the most recent type certificate data sheet for the affected models.

Conclusion

After careful review of the available data, including the comments noted above, we have determined that air safety and the public interest require the adoption of the rule with the changes previously described. These changes will neither increase the economic burden on any operator nor increase the scope of the AD.

Cost Impact

We estimate that 17 Model A330-200 and -300 series airplanes of U.S. registry will be affected by this AD.

It will take about 1 work hour to accomplish the parts identification, at an average labor rate of $65 per work hour. Based on these figures, the cost impact of the parts identification on U.S. operators is estimated to be $1,105, or $65 per airplane.

If necessary, it will take about 13 work hours per slide (8 slides per airplane) to accomplish the modification, at an average labor rate of $65 per work hour. Required parts will be provided by the manufacturer at no cost to operators. Based on these figures, the cost impact of the modification is estimated to be $6,760 per airplane.

Currently, there are no affected A340-200 and -300 series airplanes, and A340-541 and -642 airplanes on the U.S. Register. However, if an affected airplane is imported and placed on the U.S. Register in the future, the parts identification will take about 1 work hour, and the modification will take about 104 work hours, at an average labor rate of $65 per work hour. Required parts will be provided by the manufacturer at no cost to operators. Based on these figures, we estimate the cost of the parts identification to be $65 per airplane, and the modification to be $6,760 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-04-03 Airbus: Amendment 39-14484. Docket 2003-NM-211-AD.

Applicability: Model A330-201, -202, -203, -223, and -243 airplanes; Model A330-301, -321, -322, -323, -341, -342, and -343 airplanes; Model A340-211, -212, and -213 airplanes; Model A340-311, -312, and -313 airplanes; Model A340-541 airplanes; and Model 340-642 airplanes; certificated in any category; except Model A330-200 and -300 and A340-200 and -300 series airplanes on which both Airbus Modifications 52708 and 52811 were done during production, or only Airbus Modification 52708 was done during production, and Model A340-541 and -642 airplanes on which Airbus Modification 52708 was done during production, and on which no slide or slide raft has been removed since delivery from the manufacturer.

Compliance: Required as indicated, unless accomplished previously.

To prevent failure of an emergency evacuation slide raft to deploy and inflate during an emergency situation, which could impede an evacuation and result in injury to passengers or crewmembers, accomplish the following:

Service Information References

(a) The following information pertains to the service information referenced in this AD:

(1) The term “service bulletin” as used in this AD, means the Accomplishment Instructions of Airbus Service Bulletins A330-25-3225, Revision 01 (for Model A330-200 and -300 series airplanes), and A340-25-4228, Revision 01 (for Model A340-200 and -300 series airplanes), both dated September 30, 2004; and A340-25-5054 (for Model A340-541 and -642 airplanes), dated August 2, 2004.

(2) The service bulletins refer to Goodrich Alert Service Bulletin 25A341, Revision 1, dated May 21, 2003; and Goodrich Service Bulletin 25-347, Revision 1, dated August 30, 2004; as additional sources of service information for accomplishment of the modification specified in the service bulletins.

(3) Accomplishing the modification before the effective date of this AD in accordance with Airbus Service Bulletin A330-25-3225 or A340-25-4228, both dated August 2, 2004; is considered acceptable for compliance with the modification required by this AD.

Part Number Identification/Modification

(b) Within 18 months after the effective date of this AD: Determine the part number of the emergency slides or slide rafts fitted on the door types and locations listed in Table 1 of this AD. If no affected slides or slide rafts are found installed on the airplane, then no further action is required by this paragraph. If any affected slides or slide rafts are found installed on the airplane: Modify the regulator valves of the slide and slide raft assemblies at the applicable time specified in paragraph (b)(1) or (b)(2) of this AD, in accordance with the applicable service bulletin.

(1) For airplanes on which the regulator valves have not been modified as of the effective date of this AD per Goodrich Alert Service Bulletin 25A341, Revision 1, dated May 21, 2003: Before further flight.

(2) For airplanes on which the regulator valves have been modified as of the effective date of this AD per Goodrich Alert Service Bulletin 25A341, Revision 1, dated May 21, 2003: Within 18 months after the effective date of this AD.

Table 1.—Part Numbers
Door type | Door location | Goodrich slide/slide raft part number
A | 1 and 4, left-hand (LH) and right-hand (RH) | 7A1508-001, -003, -005, -007, -013, -015, -017, -101, -103, -105, -107, -109, -113, -115, or -117.
A | 2, LH | 7A1539-001, -003, -005, -007, -013, -015, -017, -101, -103, -105, -107, -109, -113, -115, or -117.
A | 2, RH | 7A1539-002, -004, -006, -008, -014, -016, -018, -102, -104, -106, -108, -110, -114, -116, or -118.
A | 3, LH | 7A1510-001, -003, -005, -007, -013, -015, -017, -101, -103, -105, -107, -109, -113, -115, or -117; or 4A3934-1 or -3.
A | 3, RH | 7A1510-002, -004, -006, -008, -014, -016, -018, -102, -104, -106, -108, -110, -114, -116, or -118; or 4A3934-2 or -4.
1 | 3, LH and RH | 7A1509-001, -003, -005, -101, -103, -105, -107, -109, -111, -115, or -117.
1 | 3, LH | 4A3928-1.
1 | 3, RH | 4A3928-2.

Parts Installation

(c) As of the effective date of this AD, no person may install a regulator valve having a part number listed in the old part number column specified in Paragraph 1.L. of the applicable service bulletin on any airplane, unless that regulator valve has been modified in accordance with paragraph (b) of this AD.

Alternative Methods of Compliance

(d) In accordance with 14 CFR 39.19, the Manager, International Branch, ANM-116, Transport Airplane Directorate, FAA, is authorized to approve alternative methods of compliance for this AD.

Note 1: The subject of this AD is addressed in French airworthiness directive F-2004-094 R1, dated February 16, 2004.

Incorporation by Reference

(e) Unless otherwise specified in this AD, the actions must be done in accordance with Airbus Service Bulletin A330-25-3225, Revision 01, dated September 30, 2004; Airbus Service Bulletin A340-25-4228, Revision 01, dated September 30, 2004; or Airbus Service Bulletin A340-25-5054, dated August 2, 2004; as applicable. This incorporation by reference was approved by the Director of the Federal Register in accordance with 5 U.S.C. 552(a) and 1 CFR part 51. To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Effective Date

(f) This amendment becomes effective on March 24, 2006.

Issued in Renton, Washington, on February 1, 2006.
Ali Bahrami,
Manager, Transport Airplane Directorate, Aircraft Certification Service.

[FR Doc. 06-1411 Filed 2-16-06; 8:45 am]

BILLING CODE 4910-13-P